DEPARTMENT OF LABOR

Employment and Training Administration

[TA-W-82,774]

Campbell Soup Company, Finance Department, Including On-Site Leased Workers From Aerotek Professional Services, Magellan Search & Staffing, Tapfin, and ACCU Staffing Services, Camden, NJ, Ta-W-82,774a; Pepperidge Farm, Finance Department, a Subsidiary of Campbell Soup Company, Including On-Site Leased Workers From Mcintyre Corporation Accounting & Finance, Norwalk, CT; Amended Certification Regarding Eligibility To Apply for Worker Adjustment Assistance

In accordance with Section 223 of the Trade Act of 1974, as amended (“Act”), 19 U.S.C. 2273, the Department of Labor issued a Certification of Eligibility to Apply for Worker Adjustment Assistance on June 17, 2013, applicable to workers of Campbell Soup Company, Finance Department, including on-site leased workers from Aerotek Professional Services, Magellan Search & Staffing, TAPFIN, and ACCU Staffing Services, Camden, New Jersey (TA-W-82,774). The Department's notice of determination was published in the Federal Register on July 5, 2013 (Volume 78 FR Pages 40508-40510).

At the request of a state workforce office, the Department reviewed the certification for workers of the subject firm. The workers are engaged in finance support services.

The state workforce office reports that the workers at Pepperidge Farm, Finance Department, a subsidiary of Campbell Soup Company, including on-site leased workers from McIntyre Corporate Accounting & Finance, Norwalk, Connecticut (TA-W-82,774A) were also impacted by the acquisition of services from a foreign country.

The amended notice applicable to TA-W-82,774 is hereby issued as follows:

“All workers of Campbell Soup Company, Finance Department, including on-site leased workers from Aerotek Professional Services, Magellan Search & Staffing, TAPFIN, and ACCU Staffing Services, Camden, New Jersey (TA-W-82,774) and Pepperidge Farm, Finance Department, a subsidiary of Campbell Soup Company, including on-site leased workers from McIntyre Corporate Accounting & Finance, Norwalk, Connecticut (TA-W-82,774A) who became totally or partially separated from employment on or after May 31, 2012, through June 17, 2015, and all workers in the group threatened with total or partial separation from employment on date of certification through two years from the date of certification, are eligible to apply for adjustment assistance under Chapter 2 of Title II of the Trade Act of 1974, as amended.”

Signed in Washington, DC, this 2nd day of January, 2014.
Michael W. Jaffe,
Certifying Officer, Office of Trade Adjustment Assistance.

[FR Doc. 2014-00678 Filed 1-15-14; 8:45 am]

BILLING CODE 4510-FN-P